NATIONAL ARCHIVES AND RECORDS ADMINISTRATION

Advisory Committee on the Records of Congress; Meeting

AGENCY: National Archives and Records Administration.

ACTION: Notice of meeting.

SUMMARY: In accordance with the Federal Advisory Committee Act, the National Archives and Records Administration (NARA) announces a meeting of the Advisory Committee on the Records of Congress. The committee advises NARA on the full range of programs, policies, and plans for the Center for Legislative Archives in the Office of Records Services.

DATES: September 8, 2008 from 10 a.m. to 11 a.m.

ADDRESSES: The U.S. Capitol Building, Room S-211, Washington, DC.

FOR FURTHER INFORMATION CONTACT: Richard H. Hunt, Director; Center for Legislative Archives; (202) 357-5350.

SUPPLEMENTARY INFORMATION:

Agenda

(1) Chair's opening remarks—Secretary of the Senate.

(2) Recognition of Co-chair—Clerk of the House.

(3) Recognition of the Archivist of the United States.

(4) Approval of the minutes of the last meeting.

(5) Discussion of on-going projects and activities.

(6) Annual Report of the Center for Legislative Archives.

(7) Other current issues and new business.

The meeting is open to the public.

Dated: August 20, 2008.
Patrice Little Murray,
Alternate Committee Management Officer.

[FR Doc. E8-19746 Filed 8-22-08; 8:45 am]

BILLING CODE 7515-01-P